DEPARTMENT OF THE INTERIOR

Fish and Wildlife Service

[FWS-R7-ES-2013-N066; FXFR13370700000-134-FF07CAMM00]

Endangered and Threatened Wildlife and Plants; Announcement of Active 5-Year Status Review of the Southwest Alaska Distinct Population Segment of the Northern Sea Otter

AGENCY: Fish and Wildlife Service, Interior.

ACTION: Announcement of active review; request for information.

SUMMARY: We, the U.S. Fish and Wildlife Service, are announcing an active 5-year status review under the Endangered Species Act of 1973, as amended (Act), of the southwest Alaska Distinct Population Segment (DPS) of the northern sea otter (Enhydra lutris kenyoni). A 5-year status review is based on the best scientific and commercial data available at the time of the review; therefore, we are requesting submission of any such information that has become available since the last review for the species.

DATES: To ensure consideration, we are requesting submission of new information no later than June 25, 2013. However, we will continue to accept new information about any listed species at any time.

ADDRESSES: Please submit your information in writing by any one of the following methods:

• U.S. mail: Deborah Pierce Williams, Chief, Marine Mammals Management, U.S. Fish and Wildlife Service, attention: Northern Sea Otter 5-year Review, 1011 E. Tudor Road, Anchorage, AK 99503;

• Hand-delivery: U.S. Fish and Wildlife Service, 1011 E. Tudor Road, Anchorage, AK 99503;

• Fax: 907-786-3816; or

• Email: FW7_Sea_Otter_5yr@fws.gov.

For more about submitting information, see “Request for Information” in the SUPPLEMENTARY INFORMATION section below.

FOR FURTHER INFORMATION CONTACT: Frances Mann, Sea Otter Program Lead, Marine Mammals Management, U.S. Fish and Wildlife Service, by telephone at 907-786-3668, or at the above address, fax number, or email address. Individuals who are hearing impaired or speech impaired may call the Federal Relay Service at 800-877-8339 for TTY assistance.

SUPPLEMENTARY INFORMATION:

Why do we conduct a 5-year review?

Under the Act (16 U.S.C. 1531 et seq.), we maintain Lists of Endangered and Threatened Wildlife and Plants (which we collectively refer to as the List) in the Code of Federal Regulations (CFR) at 50 CFR 17.11 (for animals) and 17.12 (for plants). Section 4(c)(2) of the Act requires us to review each listed species' status at least once every 5 years. Our regulations at 50 CFR 424.21 require that we publish a notice in the Federal Register announcing those species that are under active review.

For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be used to evaluate the ongoing recovery programs for the species.

Species Under Review

This notice announces our active review of the southwest Alaska Distinct Population Segment (DPS) of the northern sea otter, which is currently listed as Threatened under the Endangered Species Act. The final listing rule for this DPS of the northern sea otter was published on August 9, 2005 (70 FR 46366). A draft recovery plan for this DPS of the northern sea otter was completed in August 2010 and is available at http://alaska.fws.gov/fisheries/mmm/seaotters/recovery.htm.

Request for Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Alaska Region of the Service has lead responsibility is available at http://alaska.fws.gov/fisheries/endangered/reviews.htm.

Authority

This document is published under the authority of the Endangered Species Act of 1973, as amended (16 U.S.C. 1531 et seq.).

Dated: April 19, 2013.
Geoffrey L. Haskett,
Regional Director, Alaska Region.

[FR Doc. 2013-09884 Filed 4-25-13; 8:45 am]

BILLING CODE 4310-55-P